COMMODITY FUTURES TRADING COMMISSION

Request of the Kansas City Board of Trade for Approval of Amendments to Its Hard Red Winter Wheat Futures Contract Lowering the Price Discount for Delivery at Huchinson, KS, Increasing the Price Discount for Delivery of U.S. No. 3 Hard Red Winter Wheat, and Modifying the Maximum Permissible Amount of Wheat of Other Classes Deliverable as U.S. No. 3 Hard Red Winter Wheat

AGENCY: Commodity Futures Trading Commission.

ACTION: Notice of availability of terms and conditions of proposed amendments to commodity futures contract.

SUMMARY: The Kansas City Board of Trade (KCBT or Exchange) has requested that the Commission approve amendments to its hard red winter wheat futures contract, pursuant to the provisions of section 5c(c)(2)(B) of the Commodity Exchange Act as amended. The proposed amendments would reduce to 9 from 12 cents per bushel the discount for delivery at Hutchinson, Kansas, increase to 5 from 3 cents per bushel the discount for delivery of U.S. No. 3 hard red winter wheat, and reduce the maximum permissible amount of wheat of other classes deliverable as No. 3 hard red winter wheat. The Acting Director of the Division of Economic Analysis (Division) of the Commission, acting pursuant to the authority delegated by Commission Regulation 140.96, has determined that publication of the proposal for comment is in the public interest, will assist the Commission in considering the views of interested persons, and is consistent with the purposes of the Commodity Exchange Act.

DATES: Comments must be received on or before February 12, 2002.

ADDRESSES: Interested persons should submit their views and comments to Jean A. Webb, Secretary, Commodity Futures Trading Commission, Three Lafayette Centre, 1155 21st Street, NW., Washington, DC 20581. In addition, comments may be sent by facsimile transmission to (202) 418-5521 or by electronic mail to secretary@cftc.gov. Reference should be made to the KCBT hard red winter wheat futures contract amendments.

FOR FURTHER INFORMATION CONTACT: Please contact Martin Murray of the Division of Economic Analysis, Commodity Futures Trading Commission, Three Lafayette Centre, 1155 21st Street NW., Washington, DC (202) 418-5276. Facsimile number: (202) 418-5527. Electronic mail: mmurray@cftc.gov.

SUPPLEMENTARY INFORMATION: The KCBT hard red winter wheat futures contract calls for the par delivery of 5,000 bushels of U.S. No. 2 hard red winter wheat in Exchange-licensed warehouses located in Kansas City (in both Missouri and Kansas). The Exchange also permits delivery of U.S. No. 1 and U.S. No. 2 hard red winter wheat as well as delivery at Exchange-licensed warehouses in Hutchinson, Kansas, at specified price differentials.

The Exchange is proposing to reduce the price discount for delivery at Hutchinson, Kansas, to 9 cents from 12 cents per bushel per bushel. The Exchange is also proposing to amend the contract's quality specifications for the delivery of U.S. No. 3 hard red winter wheat by restricting the maximum permissible amount of wheat of other classes included in delivery wheat. Currently, the futures contract provides that deliverable wheat must meet the official standards specified for U.S. No. 3 hard red winter wheat, which sets a maximum limit of 10 percent for wheat of other classes. Finally, the Exchange proposes to increase the price discount for delivery of U.S. No. 3 hard red winter wheat to 5 cents per bushel from 3 cents per bushel.

The Exchange proposes to apply the proposed amendments to existing futures contract months, beginning with the July 2003 contract month, and to all newly listed contract months. In this regard, the Exchange has established a limited period during which holders of Exchange-registered warehouse receipts for U.S. No. 3 hard red winter wheat that does not reflect the proposed 5% maximum tolerance for wheat of other classes may present such receipts to the issuing warehouse for replacement with receipts for wheat that reflects the proposed 5% maximum tolerance. Specifically, the Exchange proposes that the period for exchanging such receipts will extend from the first business day prior to the first notice day through the third business day following notice day of the July 2003 contract month. As part of the implementation plan, the Exchange proposes to establish a maximum fee of 5 cents per bushel, which warehouse receipt issuers may charge receipt holders for the replacement receipts.

Copies of the amendments will be available for inspection at the Office of the Secretariat, Commodity Futures Trading Commission, Three Lafayette Centre, 1155 21st Street, NW., Washington, DC 20581. Copies of the terms and conditions can be obtained through the Office of the Secretariat by mail at the above address or by phone at (202) 418-5100.

Other materials submitted by the KCBT in support of the request for approval may be available upon request pursuant to the Freedom of Information Act (5 U.S.C. 552) and the Commission's regulations there under (17 CFR part 145 (2000)), except to the extent they are entitled to confidential treatment as set forth in 17 CFR 145.5 and 145.9. Requests for copies of such materials should be made of the FOI, Privacy and Sunshine Act Compliance Staff of the Office of Secretariat at the Commission's headquarters in accordance with 17 CFR 145.7 and 145.8.

Any person interested in submitting written data, views, or arguments on the proposed terms and conditions, or with respect to other materials submitted by the KCBT should send such comments to Jean A. Webb, Secretary, Commodity Futures Trading Commission, Three Lafayette Centre, 1155 21st Street, NW., Washington, DC 20581 by the specified date.

Issued in Washington, DC on January 22, 2002.
Richard A. Shilts,
Acting Director.

[FR Doc. 02-1946 Filed 1-25-02; 8:45 am]

BILLING CODE 6351-01-M